COMMITTEE FOR PURCHASE FROM PEOPLE WHO ARE BLIND OR SEVERELY DISABLED

Procurement List; Proposed Additions and Deletions

AGENCY: Committee for Purchase From People Who Are Blind or Severely Disabled.

ACTION: Establishment of new effective date.

In the document appearing on page 3259, FR Doc E6-640, in the issue of January 20, 2006 in the second column, the Committee published a notice suspending the effective date of a service that was originally published on page 76234, FR Doc 05-7764, in the issue of December 23, 2005, in the first and second columns. The Committee is establishing a new effective date of February 24, 2006 for addition of the following service:

Service Type/Location: Basewide Custodial Services, U.S. Naval Academy Complex, Annapolis, Maryland.

NPA: Melwood Horticultural Training Center, Upper Marlboro, Maryland.

Contracting Activity: Naval Facilities Engineering Command, Chesapeake, Washington, DC.

This action does not affect current contracts awarded prior to the effective date of this addition or options that may be exercised under those contracts.

Sheryl D. Kennerly,
Director, Information Management.

[FR Doc. E6-2671 Filed 2-23-06; 8:45 am]

BILLING CODE 6353-01-P